GENERAL SERVICES ADMINISTRATION

Office of Small Business Utilization; Small Business Advisory Committee;

Notification of a Public Meeting of the Small Business Advisory Committee

AGENCY: Office of Small Business Utilization, GSA.

ACTION: Notice.

SUMMARY: The General Services Administration (GSA) is announcing a public meeting of the GSA Small Business Advisory Committee (the Committee).

DATES: The meeting will take place December 6 and 7, 2006. The meeting will begin on December 6, 2006 at 10 a.m. and conclude no later than 5 p.m. that day. The meeting will reconvene on December 7 at 9 a.m. and conclude no later than 1 p.m. The Committee will accept oral public comments at this meeting and has reserved a total of thirty minutes for this purpose. Members of the public wishing to reserve speaking time must contact Aaron Collmann in writing via e-mail at sbac@gsa.gov or by fax at (202) 501-2590, no later than one week prior to the meeting.

MEETING ADDRESS: Thomas P. O'Neill Jr. Federal Building, 10 Causeway Street, Boston, MA

FOR FURTHER INFORMATION CONTACT Aaron Collmann, Room 6029, GSA Building, 1800 F Street, NW., Washington, DC 20405 (202) 501-1021 or email at sbac@gsa.gov.

SUPPLEMENTARY INFORMATION: This notice is published in accordance with the provisions of the Federal Advisory Committee Act (FACA) (Pub. L. 92-463). The purpose of this meeting is to develop the topics generated during the previous meetings; to receive briefings from small business topical experts, and to hear from interested members of the public on proposals to improve GSA's small business contracting performance. Information from previous meetings and topics to be discussed can be found listed in the agenda posted online at http://www.gsa.gov/sbac.

Dated: November 14, 2006.
Felipe Mendoza,
Associate Administrator, Office of Small Business Utilization,General Services Administration.

[FR Doc. E6-19660 Filed 11-20-06; 8:45 am]

BILLING CODE 6820-34-S